DEPARTMENT OF HEALTH AND HUMAN SERVICES

National Institutes of Health

National Institute of Diabetes and Digestive and Kidney Diseases; Amended Notice of Meeting

Notice is hereby given of a change in the meeting of the National Diabetes and Digestive and Kidney Diseases Advisory Council, September 09, 2021, 10:00 a.m. to September 10, 2021, 12:45 p.m., National Institutes of Health, Two Democracy Plaza, 6707 Democracy Boulevard, Bethesda, MD, 20892 which was published in the Federal Register on August 09, 2021, FR Doc 2021-16952, 86 FR 43557.

The meeting notice is amended to change and adjust the Opening and Closing times on the Subcommittees and Executive Sessions. The meeting is partially Closed to the public.

Dated: August 17, 2021.
Miguelina Perez,
Program Analyst, Office of Federal Advisory Committee Policy.

[FR Doc. 2021-17876 Filed 8-19-21; 8:45 am]

BILLING CODE 4140-01-P